DEPARTMENT OF HEALTH AND HUMAN SERVICES

Administration for Children and Families

Office of Refugee Resettlement

[CFDA Number 93.583]

Announcement of the Award of a Single-Source Program Expansion Supplement Grant to Massachusetts Office for Refugees and Immigrants in Boston, MA

AGENCY: Office of Refugee Resettlement, ACF, HHS.

ACTION: Announcement of the award of a single-source program expansion supplement grant to Massachusetts Office for Refugees and Immigrants to provide refugee cash assistance to an increased number of clients.

SUMMARY: The Administration for Children and Families (ACF), Office of Refugee Resettlement (ORR) announces the award of a single-source program expansion supplement grant to Massachusetts Office for Refugees and Immigrants, Boston, MA, in the amount of $325,000 under the Wilson-Fish Program. The supplemental award will allow the grantee to provide refugee cash assistance (RCA) to arriving refugees and others who are also eligible for refugee benefits through the remainder of the current budget period. The expansion supplement award will enable the grantee to provide assistance to a higher number of clients than originally planned. RCA is provided to clients for up to 8 months upon arrival to the U.S. who are categorically ineligible to receive cash assistance through the State TANF program but otherwise meet the program's financial eligibility requirements.

DATES: September 30, 2012 through September 29, 2013.

CONTACT FOR FURTHER INFORMATION: Carl Rubenstein, Wilson-Fish Coordinator, Office of Refugee Resettlement, Aerospace Building, 8th Floor West, 901 D Street SW., Washington, DC 20447. Telephone: 202-205-5933 Email: carl.rubenstein@acf.hhs.gov

SUPPLEMENTARY INFORMATION: The Wilson-Fish program is intended to be an alternative to the traditional State administered refugee assistance program for providing integrated assistance (cash and medical) and services (employment, case-management, ESL and other social services) to refugees, asylees, Amerasian Immigrants, Cuban and Haitian Entrants, Trafficking Victims and Iraqi/Afghani Special Immigrant Visa holders in order to increase their prospects for early employment and self-sufficiency, reduce their level of welfare dependence and promote coordination among voluntary resettlement agencies and service providers. In addition, the Wilson-Fish program enables ORR to ensure that refugee assistance programs exist in every State where refugees are resettled.

Statutory Authority: The Refugee Act of 1980 as amended, Wilson-Fish Amendment, Pub. L. 98-473, 8 U.S.C. 1522(e)(7); section 412(e)(7)(A) of the Immigration and Nationality Act.

Eskinder Negash,
Director, Office of Refugee Resettlement.

[FR Doc. 2013-21811 Filed 9-6-13; 8:45 am]

BILLING CODE 4184-46-P